ENVIRONMENTAL PROTECTION AGENCY

[FRL-9216-8]

National Environmental Justice Advisory Council; Notification of Public Meeting and Public Comment

AGENCY: Environmental Protection Agency.

ACTION: Notification of Public Meeting.

SUMMARY: Pursuant to the Federal Advisory Committee Act (FACA), Public Law 92-463, the U.S. Environmental Protection Agency (EPA) hereby provides notice that the National Environmental Justice Advisory Council (NEJAC) will meet on the dates and times described below. All meetings are open to the public. Members of the public are encouraged to provide comments relevant to the specific issues being considered by the NEJAC. For additional information about registering for public comment, please see SUPPLEMENTARY INFORMATION. Due to limited space, seating at the NEJAC meeting will be on a first-come, first-served basis.

DATES: The NEJAC meeting will convene Tuesday, November 16, 2010, from 1 p.m. until 3:45 p.m., and reconvene Wednesday, November 17, 2010, from 9 a.m. to 5 p.m., and Thursday, November 18, 2010, from 9 a.m. to 2 p.m. All noted times are Central Time.

One public comment session relevant to the specific issues being considered by the NEJAC (see SUPPLEMENTARY INFORMATION) is scheduled for Tuesday, November 16, from 4 p.m. to 7 p.m. All noted times are Central Time. Members of the public who wish to participate in the public comment period are encouraged to pre-register by 11 a.m. Monday, November 1, 2010.

ADDRESSES: The NEJAC meeting will be held at the Westin Crown Center, One Pershing Road, Kansas City, Missouri 64108, telephone 816-474-4400, fax 816-843-4822 or toll free: 1-800-937-8461.

FOR FURTHER INFORMATION CONTACT: Questions concerning the meeting should be directed to Mr. Aaron Bell, U.S. Environmental Protection Agency, 1200 Pennsylvania Avenue, NW (MC2201A), Washington, DC 20460; by telephone at 202-564-1044, via e-mail at Bell.Aaron@epa.gov; or by fax at 202-501-0936. Additional information about the meeting is available at the following Web site address: http://www.epa.gov/compliance/environmentaljustice/nejac/meetings.html.

Pre-registration by 11 a.m. Monday, November 1, 2010, for all attendees is highly recommended. To register online, visit the Web site address above. Requests for pre-registration forms should be faxed to Ms. Estela Rosas, EPA Contractor, APEX Direct, Inc., at 877-773-0779 or e-mailed to Meetings@AlwaysPursuingExcellence.com. Please remember to specify which meeting you are registering to attend (e.g., NEJAC November 2010). Please also state whether you would like to be put on the list to provide public comment, and whether you are submitting written comments before the November 1, 2010, deadline. Non-English speaking attendees wishing to arrange for a foreign language interpreter may make appropriate arrangements in writing using the above fax number.

SUPPLEMENTARY INFORMATION: The Charter of the NEJAC states that the advisory committee shall provide independent advice to the EPA Administrator on areas that may include, among other things, “advice about broad, cross-cutting issues related to environmental justice, including environment-related strategic, scientific, technological, regulatory, and economic issues related to environmental justice.”

The meeting shall be used to receive comments, and discuss and provide recommendations regarding these primary areas: (1) EPA's Plan EJ 2014; (2) EPA's charge to the NEJAC on incorporating environmental justice into the permitting process, (3) rural environmental justice challenges; and (4) green impact zones.

A. Public Comment: Individuals or groups making oral presentations during the public comment period will be limited to a total time of five minutes. Only one representative of a community, organization, or group will be allowed to speak. Any number of written comments can be submitted for the record. The suggested format for individuals providing public comments is as follows: Name of speaker, name of organization/community, mailing address, telephone, e-mail address, a brief description of concern, and what you want the NEJAC to advise EPA to do. Written comments received by 11 a.m. Monday, November 1, 2010, will be included in the materials distributed to the members of the NEJAC. Written comments received after that date and time will be provided to the NEJAC as time allows. All information should be sent to the address, e-mail, or fax number listed in the FOR FURTHER INFORMATION CONTACT section above.

B. Information about Services for Individuals with Disabilities: For information about access or services for individuals with disabilities, please contact Ms. Estela Rosas, EPA Contractor, APEX Direct, Inc., at 877-773-0779 or Meetings@AlwaysPursuingExcellence.com. To request special accommodations for a disability, please contact Ms. Rosas at least 7 working days prior to the meeting, to give EPA sufficient time to process your request. All other requests specifically related to the meeting should be sent to the address, e-mail, or fax number listed in the FOR FURTHER INFORMATION CONTACT section above.

Dated: October 15, 2010.
Victoria Robinson,
Designated Federal Officer, National Environmental Justice Advisory Council.

[FR Doc. 2010-26884 Filed 10-22-10; 8:45 am]

BILLING CODE 6560-50-P